Title 3—

The President

Proclamation 8047 of September 7, 2006

Patriot Day, 2006

By the President of the United States of America

A Proclamation

On the fifth anniversary of the attacks of September 11, 2001, we recall the fire and horror at the twin towers of the World Trade Center, the Pentagon, and a Pennsylvania field. America will always remember the thousands of innocent lives taken by the enemies of freedom that morning.

In the face of these unspeakable attacks, we were reminded that the great strength of America is found in the hearts and souls of our citizens. We witnessed firefighters, police officers, other public safety officials, and ordinary Americans demonstrate extraordinary courage, risking their lives to save innocent victims. We saw our country united in compassion as Americans came together to provide relief and bring hope to others.

Today, America is fighting a war that is testing our Nation's resolve. We are once again answering history's call with confidence, and we know that freedom will prevail. Our brave men and women in uniform have stepped forward to fight our enemies abroad so that we do not have to face them here at home, and we are grateful for the courageous individuals bringing terrorists to justice around the world.

We are also confronting the extremists in the great ideological struggle of the 21st century. September the 11th made clear that, in the long run, the only way to secure our Nation is to advance liberty and democracy as the great alternatives to repression and radicalism. By working together with our friends and allies, we are helping spread the blessings of freedom and laying the foundations of peace for generations to come.

The events of September 11, 2001, will always be a defining moment in our history. We hold the victims and their families in our hearts, and we lift them up in our prayers.

By a joint resolution approved December 18, 2001 (Public Law 107-89), the Congress has designated September 11 of each year as “Patriot Day.”

NOW, THEREFORE, I, GEORGE W. BUSH, President of the United States of America, do hereby proclaim September 11, 2006, as Patriot Day. I call upon the Governors of the United States and the Commonwealth of Puerto Rico, as well as appropriate officials of all units of government, to direct that the flag be flown at half staff on Patriot Day. I also call upon the people of the United States to observe Patriot Day with appropriate ceremonies, activities, and remembrance services, to display the flag at half staff from their homes on that day, and to observe a moment of silence beginning at 8:46 a.m. eastern daylight time to honor the innocent Americans and people from around the world who lost their lives as a result of the terrorist attacks of September 11, 2001.

IN WITNESS WHEREOF, I have hereunto set my hand this seventh day of September, in the year of our Lord two thousand six, and of the Independence of the United States of America the two hundred and thirty-first.

[FR Doc. 06-7642

Filed 9-11-06; 9:20 am]

Billing code 3195-01-P